FEDERAL COMMUNICATIONS COMMISSION

47 CFR Part 73

[DA 01-348; MM Docket No. 01-38; RM-10064]

Radio Broadcasting Services; Macon, MS

AGENCY: Federal Communications Commission.

ACTION: Proposed rule.

SUMMARY: This document requests comment on a Petition for Rule Making filed on behalf of Radio South, Inc., licensee of Station WLXY, Channel 264C3, Northport, Alabama, proposing the removal of Channel 263A from Macon, Mississippi. In the event a party expresses an interest in the Channel 263A allotment at Macon, Radio South proposes the substitution of Channel 249A for Channel 263A at Macon. The coordinates for the Channel 249A allotment at Macon, Mississippi, would be 33-05-40 and 88-31-40.

DATES: Comments must be filed on or before April 3, 2001, and reply comments on or before April 18, 2001.

ADDRESSES: Secretary, Federal Communications Commission, Washington, DC 20554. In addition to filing comments with the FCC, interested parties should serve the petitioner's counsel, as follows: Erwin G. Krasnow, c/o Verner, Liipert, Bernhard, McPherson and Hand, 901 15tht Street, NW, Suite 700, Washington, DC 20005.

FOR FURTHER INFORMATION CONTACT: Robert Hayne, Mass Media Bureau, (202) 418-2177.

SUPPLEMENTARY INFORMATION: This is a synopsis of the Commission's Notice of Proposed Rule Making in MM Docket No. 01-38 , adopted February 7, 2001, and released February 9, 2001. The full text of this Commission action is available for inspection and copying during normal business hours in the FCC Reference Information Center at Portals II, CY-A257, 445 12th Street, SW, Washington, DC. The complete text of this action may also be purchased from the Commission's copy contractor, International Transcription Service, Inc., (202) 857-3800, 1231 20th Street, Washington, DC 20036. Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Mississippi is amended to remove Macon, Channel 263A.

Federal Communications Commission.
John A. Karousos,
Chief, Allocations Branch, Policy and Rules Division, Mass Media Bureau.

[FR Doc. 01-5828 Filed 3-12-01; 8:45 am]

BILLING CODE 6712-01-U